DEPARTMENT OF DEFENSE

Office of the Secretary

[Docket ID: DoD-2012-HA-0116]

Proposed Collection; Comment Request

AGENCY: Office of the Assistant Secretary of Defense for Health Affairs, DoD.

ACTION: Notice.

SUMMARY: In compliance with Section 3506(c)(2)(A) of the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 2, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the SNPMIS Project Officer, DHSS, 7700 Arlington Boulevard, Falls Church, VA 22042-2902 or call 703-681-2236.

SUPPLEMENTARY INFORMATION:

Title; OMB Number: Special Needs Program Management Information System (SNPMIS); OMB Control Number 0720-TBD.

Needs and Uses: The information collection requirement is necessary to provide access to a comprehensive program of therapy, medical support, and social services for young Department of Defense (DoD) Military Health System (MHS) beneficiaries with special needs. Special Needs Program Management Information System (SNPMIS) is the MHS automated information system designed to ensure the DoD meets the unique information requirements associated with implementation of the Individuals with Disabilities Education Act (IDEA). SNPMIS captures records referral, evaluation, eligibility, and service plan data for children with special needs who are eligible for MHS services under IDEA. Management reports provide historical analysis to monitor ongoing improvements in quality of care initiatives. It also allows program managers to identify areas where additional services are needed. At the service level, activities of different programs can be compared to determine best practices that can be implemented throughout the Educational and Developmental Intervention Services (EDIS) clinics. The system's remote function allows EDIS staff members to enter a young beneficiary's data while conducting activities from that child's school or home.

Affected Public: Children of members of the Armed Forces and civilians who are entitled to receive early intervention and special education services from DoD under IDEA.

Annual Burden Hours: 1,775.

Number of Respondents: 1,065.

Responses per Respondent: 2.

Total Annual Responses: 2,130.

Average Burden per Response: 50 minutes.

Frequency: On occasion.

Information is collected from the individual to whom the record pertains; reports from physicians and other medical department personnel; and reports and information from other sources including educational institutions, medical institutions, public and private health, and welfare agencies.

Information from the family may be collected during an intake meeting, a meeting to develop a service plan, as a result of provision of services, performance of an evaluation, or other coordination activities. The EDIS clinic or Department of Defense Dependents School (DoDDS) school must obtain permission from the family before information is collected from or provided to an external agency, and prior to conducting evaluations or providing services. Before information is released to an external agency the parents must sign a Health Insurance Portability and Accountability Act (HIPAA) release.

Personally identifiable information (PII) and protected health information (PHI) that are collected by the system includes: Name, Social Security Number (SSN), Family member prefix (FMP), Birth Date, Race/Ethnicity, Gender, Marital Status, Spouse Information, Child Information, Disability Information, Home, Personal Cell, and Work Phone Numbers—Child and Parents, Emergency Contact, Education Information: Child's School Address; Individual educational program plans, Sponsor Name, Sponsor SSN, Sponsor and Spouse rank or title, Sponsor's unit, Other child care locations, Provider's name and title that evaluate and provide intervention, Medical Information: Clinics and medical summaries, EDIS process and activities data including referral, evaluation, eligibility, and service plans.

The Computer Security Act of 1987, which went into effect in September 1988, requires all U.S. government employees, contractors, and others who directly affect federal programs to undergo periodic training in computer security. All users of systems containing sensitive data must also receive computer training corresponding to the sensitivity of the data to which they access. All persons who have access to or who are users of SNPMIS must have an Information Technology Sensitive (IT) clearance level III or higher. SNPMIS users are health care providers and SNPMIS Technical Support Team. The health care providers have at least an IT II clearance, which allows them access to basic functions of SNPMIS (i.e., data querying, viewing, and printing). SNPMIS Development Team members have at least an IT II clearance. They have access to information regarding the creation and maintenance of user accounts, testing and system monitoring. They also perform SNPMIS audit setup and reviews, and set up roles and responsibilities. All SNPMIS users are subjected to the new hiring screening process associated with their position. Contractors, however, are required to complete a Standard Form 86 from which a National Agency Check with Inquiry's (NACI) and credit check can be conducted.

Dated: March 27, 2014.
Aaron Siegel,
Alternate OSD Federal Register Liaison Officer, Department of Defense.

[FR Doc. 2014-07197 Filed 3-31-14; 8:45 am]

BILLING CODE 5001-06-P